DEPARTMENT OF COMMERCE

National Institute of Standards and Technology

Announcement of a Public Workshop for Developing Criteria for Accreditation of Certification Bodies Involved in Organic Production and Processing

AGENCY: National Institute of Standards and Technology.

ACTION: Notice of public meeting.

SUMMARY: The National Institute of Standards and Technology (NIST) invites interested parties to attend a two-hour workshop regarding the development of criteria for a sub-program of the National Voluntary Conformity Assessment System Evaluation (NVCASE) Program for recognition of accreditors of certification bodies involved in organic production and processing.

NVCASE program procedures require NIST to consult the public when establishing requirements to be applied in evaluations conducted within the scope of NVCASE programs. There is no fee for the workshop; however, all attendees must register in advance with the Workshop Coordinator no later than May 1, 2003. Due to limited space, the interested parties will be registered on a first-come first-served basis.

DATES: The workshop will be held on May 9, 2003, from 9 a.m. to 11 a.m.

ADDRESSES: The workshop will be held at National Institute of Standards and Technology (NIST—North), located at 820 W. Diamond Avenue, Room 152, Gaithersburg, Maryland 20878.

FOR FURTHER INFORMATION CONTACT: Contact Jogindar (Joe) Dhillon via telephone at (301) 975-5521. You may register for the workshop by e-mail at dhillon@nist.gov or by fax at (301) 975-5414. You may also register by U.S. mail addressed to NVCASE Workshop Coordinator, (Attention: Joe Dhillon), NIST, 100 Bureau Drive, Stop 2150, Gaithersburg, Maryland 20899-2150.

SUPPLEMENTARY INFORMATION: In accordance with Title 15 Part 286.2(b) of the Code of Federal Regulations, NIST will establish this program pursuant to a letter received from the International Organic Accreditation Service (IOAS) in which it expressed its interest to seek NIST recognition under the NVCASE program. IOAS is an accreditor of product certifiers for organic production and processing. Further information for IOAS is available at http://www.ioas.org. NIST may recognize IOAS and any other prospective candidate who will then accredit certification bodies for organic production and processing. This sub-program would use the norms of International Federation of Organic Agriculture Movements (IFOAM). You may access IFOAM Norms 2002 at http://www.ifoam.org/standard/index.html.

Due to heightened security concerns, interested parties who wish to attend the workshop should arrive 30 minutes prior to the beginning of the workshop and should bring two forms of identification.

A copy of NVCASE regulations is available at http://ts.nist.gov/nvcase. This program under NVCASE will allow the certification bodies to satisfy the conformity assessment requirements of international Guides/Standards and IFOAM norms.

Dated: March 28, 2003.
Arden Bement,
Director.

[FR Doc. 03-7885 Filed 4-1-03; 8:45 am]

BILLING CODE 3510-13-P